ENVIRONMENTAL PROTECTION AGENCY

[FRL-7989-9]

Comprehensive Environmental Response, Compensation and Liability Act (CERCLA) or Superfund, Section 104(k); and CERCLA Section 104(d); “ ‘Discounted Loans’ Under Brownfields Revolving Loan Fund Grants”

AGENCY: Environmental Protection Agency (EPA).

ACTION: Notice of the availability.

SUMMARY: Pursuant to an October 17, 2005 Memorandum signed by Thomas P. Dunne, Acting Assistant Administrator of EPA's Office of Solid Waste and Emergency Response, Brownfields Revolving Loan Fund (RLF) grantees may provide discounted loans in certain situations. RLF grants are awarded to eligible entities provided in section 104(k)(1) of the Comprehensive Environmental Response, Compensation, and Liability Act (CERCLA), to capitalize RLF's for brownfields cleanup. RLF grantees can use their EPA grant funds for loans and subgrants, as well as other eligible activities.

The Office of Solid Waste and Emergency Response provides this policy in response to interest by RLF grantees awarded under CERCLA section 104(k) in issuing discounted loans as part of their RLF programs. Such loans were provided for in earlier policies that applied to Brownfields Cleanup Revolving Loan Fund (BCRLF) grants awarded under CERCLA section 104(d). BCRLF grants were awarded starting FY1997 to FY2002, prior to the passage of the Small Business Liability Relief and Brownfields Revitalization Act (Brownfields Law). Several BCRLF grantees made discounted loans under CERCLA section 104(d) policies, thereby achieving cleanup goals. However, with the signing of the Brownfields Law, new RLF grants, awarded under 104(k) from FY2003 forward, were left with no provision for the use of discounted loans. This policy meets this need, giving RLF grantees additional options to achieve cleanup goals, in keeping with prudent lending practices.

ADDRESSES: Mailing addresses for U.S. EPA Regional Offices and U.S. EPA Headquarters are provided in the Proposal Guidelines for Brownfields Assessment, Revolving Loan Fund and Cleanup Grants. Obtaining Proposal Guidelines: The proposal guidelines are available via the Internet: http://www.epa.gov/brownfields. Copies of the Proposal Guidelines will also be mailed upon request. Requests should be made by calling the U.S. EPA Call Center at the following numbers: Washington, DC Metro Area at 703-412-9810, Outside Washington, DC Metro at 1-800-424-9346, TDD for the Hearing Impaired at 1-800-553-7672.

FOR FURTHER INFORMATION CONTACT: Call Alison Evans at the U.S. EPA's Office of Solid Waste and Emergency Response, Office of Brownfields Cleanup and Redevelopment, (202) 566-2777.

SUPPLEMENTARY INFORMATION: This policy supersedes all previous memorandums and/or policies that address this practice for these grantees. It applies to:

• RLF grants awarded under CERCLA section 104(k),

• BCRLF grants originally awarded under CERCLA section 104(d) that have transitioned to section 104(k) as provided in section 104(k)(3)(D), and,

• BCRLF grants awarded under CERCLA section 104(d) that have not transitioned.

RLF grantees may offer discounted loans (also called “principal forgiveness”) under the following conditions:

I. Borrowers for Discounted Loans

RLF grantees may offer discounted loans to those entities provided in CERCLA section 104(k)(1) including states, political subdivisions, and others, as well as nonprofit organizations.¹ Private, for-profit entities are not eligible for discounted loans.

¹ For the purposes of the brownfields grant program, EPA will use the definition of nonprofit organizations contained in Section 4(6) of the Federal Financial Assistance Management Improvement Act of 1999, Public Law 106-107, 31 U.S.C. 6101, Note. The term “nonprofit organization” means any corporation, trust, association, cooperative, or other organization that is operated mainly for scientific, educational, service, charitable, or similar purpose in the public interest; is not organized primarily for profit; and uses net proceeds to maintain, improve, or expand the operation of the organization.

II. Conditions for Individual Discounted Loans

For an individual loan, the amount of principal discounted may be any percentage of the total loan amount up to 30 percent, provided that the total amount of the principal forgiven shall not exceed $200,000. For example, a loan of $600,000 may be discounted at 30 percent, resulting in $180,000 in principal forgiven. However, a loan of $800,000, could only be discounted at 25 percent, resulting in $200,000 in principal forgiven (any discount above 25 percent, in this case, would result in more than $200,000 in principal forgiven, which is not provided for under this policy). In addition to these terms, a discounted loan may not be used in combination with a subgrant at a single site.

III. Conditions for RLF Grant Management When Discounted Loans Are Employed

For an RLF grant budget as a whole, the total dollar amount of principal forgiven through discounted loans plus the amount subgranted shall not exceed a total of 40% of RLF grant funds awarded.

Background

On January 11, 2002, President George W. Bush signed into law the Small Business Liability Relief and Brownfields Revitalization Act. This act amended the Comprehensive Environmental Response, Compensation and Liability Act to authorize Federal financial assistance for brownfields revitalization, including grants for assessment, cleanup, and job training.

Funding for the brownfields grants is authorized under section 104(k) of the Comprehensive Environmental Response, Compensation, and Liability Act of 1980, as amended, (CERCLA), 42 U.S.C. 9604(k). Eligibility for brownfields assessment and revolving loan fund grants is limited to “eligible entities” as defined in section 104(k)(1) of CERCLA. These include a General Purpose Unit of Local Government; Land Clearance Authority or other quasi-governmental entity that operates under the supervision and control of, or as an agent of, a general purpose unit of local government; Governmental Entity Created by State Legislature; Regional council or group of general purpose units of local government; Redevelopment Agency that is chartered or otherwise sanctioned by a state; State; Indian Tribe other than in Alaska; and Alaska Native Regional Corporation, Alaska Native Village Corporation, and Metlakatla Indian Community. Eligibility for brownfields cleanup grants is limited to “eligible entities” and nonprofits.

In addition, Intertribal Consortia, other than those composed of ineligible Alaskan tribes, are eligible to apply for the brownfields assessment, revolving loan fund, and cleanup grants. Coalitions of eligible governmental entities are eligible to apply for the brownfields revolving loan fund grants, but only one member of the coalition may receive a cooperative agreement.

Dated: October 24, 2005.
Linda Garczynski,
Director, Office of Brownfields Cleanup and Redevelopment, Office of Solid Waste and Emergency Response.

[FR Doc. 05-21530 Filed 10-27-05; 8:45 am]

BILLING CODE 6560-50-P